DEPARTMENT OF HEALTH AND HUMAN SERVICES

Centers for Disease Control and Prevention

[Docket No. CDC-2011-0002]

Draft Action Plan—A Public Health Action Plan To Combat Antimicrobial Resistance

AGENCY: Centers for Disease Control and Prevention (CDC), Department of Health and Human Services (DHHS).

ACTION: Extension of public comment period.

SUMMARY: On March 16, 2011, the Centers for Disease Control and Prevention (CDC), located within the Department of Health and Human Services (HHS) published a notice in the Federal Register requesting public comment on the draft, A Public Health Action Plan to Combat Antimicrobial Resistance (76 FR 14402). Written and electronic comments were to be received on or before April 15, 2011. CDC/HHS received requests asking for a 60-day extension of the comment period. In consideration of those requests, HHS/CDC is extending the comment period by 60 days to June 14, 2011.

DATES: Written or electronic comments must be received on or before June 14, 2011. Please refer to SUPPLEMENTARY INFORMATION for additional information.

ADDRESSES: Written comments may be submitted to the following address: Centers for Disease Control and Prevention, National Center for Emerging and Zoonotic Infectious Diseases, Division of Healthcare Quality Promotion, Office of Antimicrobial Resistance, Attn: Antimicrobial Resistance Action Plan, Docket No. CDC-2011-0002, 1600 Clifton Rd., NE., Mailstop A-07, Atlanta, Georgia 30333.

You may also submit written comments electronically to: http://www.regulations.gov. All comments received will be posted publicly without change, including any personal or proprietary information provided. To download an electronic version of the plan, access http://www.regulations.gov.

Written comments, identified by Docket No. CDC-2011-0002 will be available for public inspection Monday through Friday, except for legal holidays, from 9 a.m. until 5 p.m., Eastern Daylight Time, at 1600 Clifton Road, NE., Atlanta, Georgia 30333. Please call ahead to (404) 639-4000 and ask for a representative from the Office of Antimicrobial Resistance to schedule your visit. Comments may also be viewed at http://www.regulations.gov.

FOR FURTHER INFORMATION CONTACT: Rachel Wolf, Centers for Disease Control and Prevention, National Center for Emerging and Zoonotic Infectious Diseases, Division of Healthcare Quality Promotion, Office of Antimicrobial Resistance; 1600 Clifton Road, NE., Mailstop A-07, Atlanta, Georgia 30333. (404) 639-4000.

SUPPLEMENTARY INFORMATION: The HHS Interagency Task Force on Antimicrobial Resistance (hereafter referred to as the Task Force) was created in 1999 to coordinate the activities of Federal agencies in addressing antimicrobial resistance (AR) in recognition of the increasing importance of AR as a public health threat. The Task Force is co-chaired by the Centers for Disease Control and Prevention (CDC), the Food and Drug Administration (FDA), and the National Institutes of Health (NIH). The Task Force also includes the Agency for Healthcare Research and Quality (AHRQ), the Centers for Medicare and Medicaid Services (CMS), the Health Resources and Services Administration (HRSA), the HHS Office of the Assistant Secretary for Preparedness and Response (HHS/ASPR), the Department of Agriculture (USDA), the Department of Defense (DoD), the Department of Veterans Affairs (VA), and the Environmental Protection Agency (EPA).

In 2001, the Task Force developed an initial Action Plan, outlining specific issues, goals, and actions important for addressing the problem of AR. This document, entitled, A Public Health Action Plan to Combat Antimicrobial Resistance, Part I: Domestic Issues, reflected a broad-based consensus of participating Federal agencies, which was reached with individual input from state and local health agencies, universities, professional societies, pharmaceutical companies, healthcare delivery organizations, agricultural producers, consumer groups, and other members of the public. Continued collaboration with these partners has been vital to achieving successful implementation of the Action Plan.

This draft document, A Public Health Action Plan to Combat Antimicrobial Resistance, is a revision of the 2001 interagency action plan. The revised Action Plan provides an updated blueprint for specific, coordinated Federal action to address emerging threats in AR. The document covers a broad spectrum of AR issues, addressing resistance in a wide range of pathogens (bacteria, viruses, fungi, and parasites) and settings (human medicine, veterinary medicine, agriculture, animal production, and others).

The Action Plan includes action items organized into four focus areas: Surveillance, Prevention and Control, Research, and Product Development. The Action Plan contains specific action items, projects, and implementation steps. Wherever possible, action items are populated with specific projects or implementation steps to provide greater specificity for planned Federal activities. The action items, projects, and implementation steps do not represent an exhaustive list of activities.

HHS/CDC has posted the original notice and all related materials on http://www.regulations.gov.

Dated: April 13, 2011.
John Murphy,
Business Operation Manager, Centers for Disease Control and Prevention.

[FR Doc. 2011-9418 Filed 4-18-11; 8:45 am]

BILLING CODE 4163-18-P